DEPARTMENT OF HEALTH AND HUMAN SERVICES

Administration for Children and Families

Submission for OMB Review; Comment Request

Proposed Projects

Title: Continued Tracking of Families in the Head Start Impact Study.

OMB No.: 0970-0229.

Description: The Administration for Children and Families (ACF) of the Department of Health and Human Services (HHS) plans to collect follow-up information from children and families in the Head Start Impact Study (OMB No. 0970 0229). In anticipation of the possibility of conducting an 8th grade follow-up for this study, this effort will collect information necessary to identify respondents' current location, as well as other basic information about the parents' whereabouts and future contacts, should the follow-up study be continued.

The Head Start Impact Study is a longitudinal study involving approximately 5,000 first time enrolled three and four-year old preschool children across 84 nationally representative grantee/delegate agencies (in communities where there were more eligible children and families than can be served by the program.) Participating children were randomly assigned to either a Head Start group (that could enroll in Head Start services) or a control group (that could not enroll in Head Start services but could enroll in other available services selected by their parents). Data collection for the study began in fall of 2002 and extended through spring 2008, through the children's 3rd grade year.

It is the intention of the Administration for Children and Families to continue to examine outcomes for this sample of children and families through the spring of the child's 8th grade year. In order to ensure that participants can be located for that future study, location and contact information will be collected from parents or guardians in the spring of 2009, 2010, and 2012. A small set of additional items will provide information on the parents' perception of the children's well-being. The tracking updates will primarily be conducted over the telephone with in-person follow-up as necessary.

Respondents: Treatment and control group members in the Head Start Impact Study.

Annual Burden Estimates
Instrument | Number of respondents | Number of responses per respondent | Average burden hours per response | Total burden hours
Tracking Interview | 4,667 | 1 | .25 | 1,166.75

Estimated Total Annual Burden Hours 1,166.75.

Additional Information: Copies of the proposed collection may be obtained by writing to the Administration for Children and Families, Office of Planning, Research and Evaluation, 370 L'Enfant Promenade, SW., Washington, DC 20447, Attn: ACF Reports Clearance Officer. E-mail address: OPREInfoCollection@acf.hhs.gov. All requests should be identified by the title of the information collection.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, FAX: 202-395-6974, Attn: Desk Officer for ACF.

Dated: September 15, 2008.
Brendan C. Kelly,
OPRE Reports Clearance Officer.

[FR Doc. E8-22152 Filed 9-23-08; 8:45 am]

BILLING CODE 4184-01-M